DEPARTMENT OF HEALTH AND HUMAN SERVICES

National Institutes of Health

Request for Information on the Office of Disease Prevention Strategic Plan for Fiscal Years (FY) 2019-2023

AGENCY: National Institutes of Health, HHS.

ACTION: Notice.

SUMMARY: This Request for Information (RFI) is intended to gather broad public input on the FY 2019-2023 Strategic Plan for the Office of Disease Prevention (ODP) in the Division of Program Coordination, Planning, and Strategic Initiatives (DPCPSI), National Institutes of Health (NIH). The ODP invites input from prevention researchers in academia and industry, health care professionals, patient advocates and advocacy organizations, scientific or professional organizations, federal agencies, and other interested members of the public. Organizations are strongly encouraged to submit a single response that reflects the views of their organization and membership as a whole.

DATES: The ODP's Request for Information is open for public comment for a period of 45 days. Comments must be received by January 22, 2018 to ensure consideration.

ADDRESSES: Comments must be submitted electronically using the web-based form available at https://prevention.nih.gov/strategic-plan/request-for-information.

FOR FURTHER INFORMATION CONTACT: Please direct all inquiries to Wilma Peterman Cross, M.S.; Deputy Director, Office of Disease Prevention, National Institutes of Health; Phone: 301-827-5561; email: prevention@mail.nih.gov.

SUPPLEMENTARY INFORMATION: To ensure consideration, responses must be submitted electronically using the web-based form available at https://prevention.nih.gov/strategic-plan/request-for-information. The web form will provide confirmation of response submission, but respondents will not receive individualized feedback. All respondents are encouraged to sign up for the ODP email list at http://prevention.nih.gov/subscribe to receive information related to Office activities, including updates on the development and release of the final strategic plan.

The mission of the Office of Disease Prevention (ODP) is to improve the public health by increasing the scope, quality, dissemination, and impact of prevention research supported by the NIH. The ODP fulfills this mission by providing leadership for the development, coordination, and implementation of prevention research in collaboration with NIH Institutes, Centers, and Offices and other partners. The first ODP strategic plan was released in February 2014 and charted new directions and, at the same time, built upon and expanded existing programs. The Office has made considerable progress on the priorities identified in the initial plan, and the ODP remains committed to playing an integral role in advancing trans-NIH prevention-related activities. Input received from this Request for Information will inform the development of the final FY 2019-2023 Strategic Plan, which will outline activities coordinated by the ODP to assess, facilitate, and stimulate research in disease prevention, and disseminate the results of this research to improve public health.

The ODP is seeking input on the following strategic priorities:

• Strategic Priority I: Systematically monitor NIH investments in prevention research and the progress and results of that research.

• Strategic Priority II: Identify prevention research areas for investment or expanded effort by the NIH.

• Strategic Priority III: Promote the use of the best available methods in prevention research and support the development of better methods.

• Strategic Priority IV: Promote collaborative prevention research projects and facilitate coordination of such projects across the NIH and with other public and private entities.

• Strategic Priority V: Advance the understanding of prevention research, increase the availability of prevention research resources and programs, and enhance ODP's stakeholder engagement.

The ODP is also seeking input on the following questions:

• What new strategic priorities should the ODP consider adding to its plan?

• What opportunities or challenges in disease prevention research and methods could the ODP help to address?

• Who should the ODP partner with to address pressing needs in disease prevention research and methods?

• What areas transcend disease prevention research that the ODP should consider as it develops its new plan?

The definition of prevention research used by the ODP to guide its work and decision-making encompasses research designed to yield results directly applicable to identifying and assessing risk, developing interventions for preventing or ameliorating high-risk behaviors and exposures, the occurrence of a disease, disorder, or injury, or the progression of detectable but asymptomatic disease. Prevention research also includes research studies to develop and evaluate disease prevention, health promotion recommendations, and public health programs. The ODP definition of prevention includes the following categories of research:

• Identification of modifiable risk and protective factors for diseases/disorders/injuries

• Studies on assessment of risk, including genetic susceptibility

• Development of methods for screening and identification of markers for those at risk for onset or progression of asymptomatic diseases/disorders, or those at risk for adverse, high-risk behaviors/injuries

• Development and evaluation of interventions to promote health for groups of individuals without recognized signs or symptoms of the target condition

• Translation of proven effective prevention interventions into practice

• Effectiveness studies that examine factors related to the organization, management, financing, and adoption of prevention services and practices

• Methodological and statistical procedures for assessing risk and measuring the effects of preventive interventions.

Responses to this RFI are voluntary and may be submitted anonymously. Please do not include any personally identifiable or other information that you do not wish to make public. Proprietary, classified, confidential, or sensitive information should not be included in responses. Comments submitted will be compiled for discussion and incorporated into the strategic plan as appropriate. Any personal identifiers (personal names, email addresses, etc.) will be removed when responses are compiled.

This RFI is for informational and planning purposes only and is not a solicitation for applications or an obligation on the part of the United States (U.S.) Government to provide support for any ideas identified in response to it. Please note that the U.S. Government will not pay for the preparation of any information submitted or for use of that information.

Dated: December 1, 2017.
Lawrence A. Tabak,
Deputy Director, National Institutes of Health.

[FR Doc. 2017-26453 Filed 12-7-17; 8:45 am]

BILLING CODE 4140-01-P